POSTAL SERVICE

United States Postal Service Board of Governors; Sunshine Act Meeting

Date and Time: Tuesday, December 5, 2006, at 2 p.m.; and Wednesday, December 6, 2006, at 8:30 a.m. and 10:30 a.m.

Place: Washington, DC, at U.S. Postal Service Headquarters, 475 L'Enfant Plaza, SW., in the Benjamin Franklin Room.

Status: December 5-2 p.m.—Closed; December 6-8:30 a.m.—Open; December 6-10 a.m.— Closed

Matters to be Considered: Tuesday, December 5 at 2 p.m. (Closed)

1. Strategic Planning.

2. Rate Case Update.

3. Labor Negotiations Update.

4. Financial Update.

5. Personnel Matters and Compensation Issues.

6. Negotiated Service Agreement.

Wednesday, December 6 at 8:30 a.m. (Open)

1. Minutes of the Previous Meeting, November 14-15, 2006.

2. Remarks of the Postmaster General and CEO Jack Potter.

3. Committee Reports.

4. Consideration of Postal Service Fiscal Year 2006 Annual Report.

5. Consideration of Final Fiscal Year 2008 Appropriation Request.

6. Capital Investment.

a. Flats Sequencing System—Phase I Program.

7. Tentative Agenda for the January 9-10, 2007, meeting in Washington, DC.

Wednesday, December 6 at 10 a.m. (Closed)—if needed

1. Continuation of Tuesday;s closed session agenda.

Contact Person for More Information: Wendy A. Hocking, Secretary of the Board, U.S. Postal Service, 475 L'Enfant Plaza, SW., Washington, DC 20260-1000. Telephone (202) 268-4800.

Wendy A. Hocking,
Secretary.

[FR Doc. 06-9475 Filed 11-27-06; 8:45 am]

BILLING CODE 7710-12-M